DEPARTMENT OF ENERGY

Proposed Subsequent Arrangement

AGENCY: Office of Nonproliferation and International Security, Department of Energy.

ACTION: Proposed subsequent arrangement.

SUMMARY: This notice is being issued under the authority of Section 131 of the Atomic Energy Act of 1954, as amended (42 U.S.C. 2160). The Department is providing notice of a proposed subsequent arrangement under the Agreement for Cooperation in the Peaceful Uses of Nuclear Energy Between the Government of the United States and the European Atomic Energy Community (EURATOM) and the Agreement for Cooperation Between the United States and Japan Concerning Peaceful Uses of Nuclear Energy.

This subsequent arrangement concerns the retransfer of 573 g of U.S.-origin uranium (2 g U-235) and 10 g of plutonium, contained in 50 irradiated fuel rod segments, from Studsvik Nuclear AB, Nyköping, Sweden, to the Japan Atomic Energy Agency (JAEA), Tokai-Mura, Japan. The material, which is currently located at Studsvik, will be transferred to the JAEA Research Reactor for ramp test and post-irradiation examination. These rod segments have been irradiated in various European power plants under project ALPSII, and collected and prepared by the Hot Cell Laboratory at Studsvik. Upon completion of the analysis, the material will remain in Japan.

In accordance with Section 131 of the Atomic Energy Act of 1954, as amended, it has been determined that this subsequent arrangement will not be inimical to the common defense and security.

This subsequent arrangement will take effect no sooner than October 22, 2010.

Dated: October 1, 2010.
For the Department of Energy.
Thomas P. D'Agostino,
Administrator, National Nuclear Security Administration.

[FR Doc. 2010-25307 Filed 10-6-10; 8:45 am]

BILLING CODE 6450-01-P